DEPARTMENT OF JUSTICE

[OMB Number 1117-NEW]

Agency Information Collection Activities; Proposed eCollection, eComments Requested; New Information Collection; Diversion Control Division Information Technology Modernization Effort

AGENCY: Drug Enforcement Administration, Department of Justice.

ACTION: 60-Day notice.

SUMMARY: The Drug Enforcement Administration (DEA), Department of Justice (DOJ), will be submitting the following information collection request to the Office of Management and Budget (OMB) for review and approval in accordance with the Paperwork Reduction Act of 1995.

DATES: Comments are encouraged and will be accepted for 60 days until March 6, 2023.

FOR FURTHER INFORMATION CONTACT: If you have comments on the estimated public burden or associated response time, suggestions, or need a copy of the proposed information collection instrument with instructions or additional information, please contact Scott A. Brinks, Diversion Control Division, Drug Enforcement Administration; Mailing Address: 8701 Morrissette Drive, Springfield, Virginia 22152; Telephone: (571) 776-3882.

SUPPLEMENTARY INFORMATION: Written comments and suggestions from the public and affected agencies concerning the proposed collection of information are encouraged. Your comments should address one or more of the following four points:

• Evaluate whether the proposed collection of information is necessary for the proper performance of the functions of the agency, including whether the information will have practical utility;

• Evaluate the accuracy of the agency's estimate of the burden of the proposed collection of information, including the validity of the methodology and assumptions used;

• Evaluate whether and if so how the quality, utility, and clarity of the information proposed to be collected can be enhanced; and

• Minimize the burden of the collection of information on those who are to respond, including through the use of appropriate automated, electronic, mechanical, or other forms of information technology, e.g., permitting electronic submission of responses.

Overview of This Information Collection

1. Type of Information Collection: New collection.

2. Title of the Form/Collection: Diversion Control Division Information Technology Modernization Effort.

3. The agency form number, if any, and the applicable component of the Department sponsoring the collection: There will be no form number. The applicable component within the Department of Justice is the Drug Enforcement Administration, Diversion Control Division.

4. Affected public who will be asked or required to respond, as well as a brief abstract: Affected public (Primary): Business or other for-profit.

Affected public (Other): Not-for-profit institutions; Federal, State, local, and tribal governments.

Abstract: In accordance with the Controlled Substance Act (CSA), every person who manufactures, distributes, dispenses, conducts research with, imports, or exports any controlled substance to obtain a registration issued by the Attorney General. 21 U.S. 822, 823, and 957. This proposed collection would allow DEA to collect information to help improve the applications developed for DEA registrants. DEA would be collecting information regarding the registrant's business activity categories, the applications they use and the frequency which they use the applications. The registrants would be rating the usefulness and performance of various applications. They would also be able to give open ended comments and suggestions regarding their experience with the applications. The proposed survey would also ask questions about registrants' experience with the DEA Diversion Control Division's website and the Support Center.

5. An estimate of the total number of respondents and the amount of time estimated for an average respondent to respond: The table below presents information regarding the number of respondents, responses, and associated burden hours.

Activity | Number of annual responses | Average time per response (minutes) | Total annual hours
Survey | 108,000 | 14 | 25.200
Total | 108,000 |  | 25,200

6. An estimate of the total public burden (in hours) associated with the proposed collection: DEA estimates that this collection requires 25,200 annual burden hours.

If additional information is required please contact: Robert Houser, Department Clearance Officer, Policy and Planning Staff, Justice Management Division, United States Department of Justice, Two Constitution Square, 145 N Street NE, Suite 3E.206, Washington, DC 20530.

Dated: December 29, 2022.
Robert Houser,
Department Clearance Officer for PRA, Policy and Planning Staff, Office of the Chief Information Officer, U.S. Department of Justice.

[FR Doc. 2022-28557 Filed 1-3-23; 8:45 am]

BILLING CODE 4410-09-P